ENVIRONMENTAL PROTECTION AGENCY

40 CFR Parts 52 and 81

[EPA-R05-OAR-2011-0597; FRL-9902-00-Region 5]

Approval and Promulgation of Air Quality Implementation Plans; Ohio; Redesignation of the Columbus Area to Attainment of the 1997 Annual Standard for Fine Particulate Matter

AGENCY: Environmental Protection Agency (EPA).

ACTION: Final rule.

SUMMARY: EPA is taking several actions under the Clean Air Act (CAA) affecting the Columbus area and the state of Ohio for the 1997 annual fine particulate matter (PM2.5) National Ambient Air Quality Standard (NAAQS or standard). EPA is determining that the Columbus, Ohio area (Columbus area) is attaining the 1997 annual PM2.5 standard based on quality assured, state-certified monitoring data for all PM2.5 monitoring sites in this area during the period of 2007-2012. EPA is granting a request from the state of Ohio for the redesignation of the Columbus area to attainment of the 1997 annual PM2.5 standard. EPA is approving, as a revision of the Ohio State Implementation Plan (SIP), the state's plan for maintaining the 1997 annual PM2.5 standard in the Columbus area through 2023, the state's 2015 and 2022 Nitrogen Oxides (NOX) and PM2.5 Motor Vehicle Emission Budgets (MVEBs) for the Columbus area (which EPA is also finding to be adequate for transportation conformity determinations), and 2005 NOX, Sulfur Dioxide (SO2), and primary PM2.5 and 2007 Volatile Organic Compound (VOC) and ammonia emission inventories for the Columbus area. The Columbus area includes Coshocton (Franklin Township only), Delaware, Licking, Fairfield, and Franklin Counties.

DATES: This final rule is effective November 7, 2013.

ADDRESSES: EPA has established a docket for this action: Docket ID No. EPA-R05-OAR-2011-0597. All documents in the docket are listed on the www.regulations.gov Web site. Although listed in the index, some information is not publicly available, i.e., Confidential Business Information (CBI) or other information whose disclosure is restricted by statute. Certain other material, such as copyrighted material, is not placed on the Internet and will be publicly available only in hardcopy form. Publicly available docket materials are available either electronically in www.regulations.gov or in hardcopy at the Environmental Protection Agency, Region 5, Air and Radiation Division, 77 West Jackson Boulevard, Chicago, Illinois 60604. This facility is open from 8:30 a.m. to 4:30 p.m., Monday through Friday, excluding Federal holidays. We recommend that you telephone Edward Doty, Environmental Scientist, at (312) 886-6057, before visiting the Region 5 office.

FOR FURTHER INFORMATION CONTACT: Edward Doty, Environmental Scientist, Attainment Planning and Maintenance Section, Air Programs Branch (AR-18J), Environmental Protection Agency, Region 5, 77 West Jackson Boulevard, Chicago, Illinois 60604, (312) 886-6057, Doty.Edward@epa.gov.

SUPPLEMENTARY INFORMATION: Throughout this document whenever “we,” “us,” or “our” is used, we mean EPA. This supplementary information section is arranged as follows:

I. What is the background for the actions?

II. What is EPA's response to comments on EPA's proposed actions?

III. What actions is EPA taking?

IV. Statutory and Executive Order Reviews

I. What is the background for the actions?

On July 18, 1997 (62 FR 38652), EPA promulgated an annual PM2.5 standard at a level of 15 micrograms per cubic meter (µg/m³) of ambient air, based on the three-year average of the annual mean PM2.5 concentrations at any monitor (1997 annual PM2.5 standard). On January 5, 2005 (70 FR 944), EPA published area designations for the 1997 annual PM2.5 standard based on the air quality data for the period of 2001-2003. In that rulemaking, EPA designated the Columbus area as nonattainment for this standard.

On September 14, 2011 (76 FR 56641), EPA made a determination that the Columbus area had attained the 1997 annual PM2.5 standard by the applicable attainment date. This determination of attainment was based on quality-assured annual-averaged PM2.5 concentrations for the PM2.5 monitoring sites in the Columbus area for the periods of 2007-2009 and 2008-2010. Based on our review of PM2.5 monitoring data from 2010-2012, we have determined that the Columbus area continues to attain the 1997 annual PM2.5 standard.

On June 3, 2011, the Ohio Environmental Protection Agency (OEPA) submitted a request for EPA to grant the redesignation of the Columbus area to attainment of the 1997 annual PM2.5 standard and for EPA approval of a SIP revision containing PM2.5-related 2005 emission inventories (for NOX, SO2, and primary PM2.5) and a PM2.5 maintenance plan for the Columbus area. The maintenance plan includes 2015 and 2022 MVEBs for the Columbus area. In a supplemental submission to the EPA on April 30, 2013, the OEPA submitted 2007 VOC and ammonia emission inventories for the Columbus area to supplement the 2005 emission inventories.

On August 26, 2013 (78 FR 52733), EPA issued a notice of rulemaking proposing to grant Ohio's request to redesignate the Columbus area to attainment of the 1997 annual PM2.5 standard. This notice of rulemaking also proposed: To determine that the Columbus area is attaining the 1997 annual PM2.5 standard based on PM2.5 monitoring data for the period of 2008-2012; to approve Ohio's PM2.5 maintenance plan for the Columbus area; to approve the 2005 NOX, SO2, and primary PM2.5 and 2007 VOC and ammonia emission inventories for the Columbus area; and to approve the 2022 primary PM2.5 and NOX MVEBs for the Columbus area.

The primary background for today's actions is contained in EPA's August 26, 2013, proposal to approve Ohio's PM2.5 redesignation request and in EPA's September 14, 2011, final determination that the Columbus area has attained the 1997 annual PM2.5 standard. In particular, the August 26, 2013, proposed rulemaking provides a detailed discussion of how Ohio's PM2.5 redesignation request and maintenance plan meet CAA requirements for redesignation of the Columbus area to attainment of the 1997 annual PM2.5 standard.

II. What is EPA's response to comments on EPA's proposed actions?

EPA received two comment letters and an email supporting EPA's proposed actions. No adverse comments were received for the proposed actions.

III. What actions is EPA taking?

EPA is making a determination that the Columbus area is currently attaining the 1997 annual PM2.5 standard based on PM2.5 monitoring data for the period of 2007-2012. EPA is determining that the Columbus area and the State of Ohio have met the requirements for redesignation of the Columbus area to attainment for the 1997 annual PM2.5 standard under sections 107(d)(3)(E) and 175A of the CAA. EPA is, thus, granting the request from Ohio to change the legal designation of the Columbus area from nonattainment to attainment for the 1997 annual PM2.5 NAAQS. EPA is approving Ohio's PM2.5 maintenance plan for the Columbus area as a revision to the Ohio SIP because the plan meets the requirements of section 175A of the CAA. EPA is approving 2005 emission inventories for primary PM2.5, NOX, and SO2 and 2007 emission inventories for VOC and ammonia for the Columbus area as satisfying the requirement in section 172(c)(3) of the CAA for a comprehensive, current emission inventory. Finally, EPA finds adequate and is approving 2015 and 2022 primary PM2.5 and NOX MVEBs for the Columbus. These MVEBs will be used for future transportation conformity analyses for the Columbus area.

In accordance with 5 U.S.C. 553(d), EPA finds there is good cause for these actions to become effective immediately upon publication. This is because a delayed effective date is unnecessary due to the nature of a redesignation to attainment, which relieves the area from certain CAA requirements that would otherwise apply to it. The immediate effective date for this action is authorized under both 5 U.S.C. 553(d)(1), which provides that rulemaking actions may become effective less than 30 days after publication if the “grants or recognizes an exemption or relieves a restriction,” and section 553(d)(3) which allows an effective date less than 30 days after publication “as otherwise provided by the agency for good cause found and published with the rule.” The purpose of the 30-day waiting period prescribed in section 553(d) is to give affected parties a reasonable time to adjust their behavior and prepare before the final rule takes effect. Today's rule, however, does not create any new regulatory requirements such that affected parties would need time to prepare before the rule takes effect. Rather, today's rule relieves the state of planning requirements for this PM2.5 nonattainment area. For these reasons, EPA finds good cause under 5 U.S.C. 553(d)(3) for these actions to become effective on the date of publication of these actions.

IV. Statutory and Executive Order Reviews

Under the CAA, redesignation of an area to attainment and the accompanying approval of a maintenance plan under section 107(d)(3)(E) are actions that affect the status of a geographical area and do not impose any additional regulatory requirements on sources beyond those imposed by State law. A redesignation to attainment does not in and of itself create any new requirements, but rather results in the applicability of requirements contained in the CAA for areas that have been redesignated to attainment. Moreover, the Administrator is required to approve a SIP submission that complies with the provisions of the CAA and applicable Federal regulations. 42 U.S.C. 7410(k); 40 CFR 52.02(a). Thus, in reviewing SIP submissions, EPA's role is to approve State choices, provided that they meet the criteria of the CAA. Accordingly, this action merely approves state law as meeting Federal requirements and does not impose additional requirements beyond those imposed by state law and the CAA. For that reason, these actions:

• Are not “significant regulatory actions” subject to review by the Office of Management and Budget under Executive Order 12866 (58 FR 51735, October 4, 1993);

• do not impose an information collection burden under the provisions of the Paperwork Reduction Act (44 U.S.C. 3501 et seq.);

• are certified as not having a significant economic impact on a substantial number of small entities under the Regulatory Flexibility Act (5 U.S.C. 601 et seq.);

• do not contain any unfunded mandate or significantly or uniquely affect small governments, as described in the Unfunded Mandates Reform Act of 1995 (Pub. L. 104-4);

• do not have Federalism implications as specified in Executive Order 13132 (64 FR 43255, August 10, 1999);

• are not an economically significant regulatory action based on health or safety risks subject to Executive Order 13045 (62 FR 19885, April 23, 1997);

• are not a significant regulatory action subject to Executive Order 13211 (66 FR 28355, May 22, 2001);

• are not subject to requirements of section 12(d) of the National Technology Transfer and Advancement Act of 1995 (15 U.S.C. 272 note) because application of those requirements would be inconsistent with the CAA; and,

• do not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the State, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by January 6, 2014. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects

40 CFR Part 52

Environmental protection, Air pollution control, Incorporation by reference, Intergovernmental relations, Nitrogen oxides, Particulate matter, Sulfur dioxide, Ammonia, Volatile organic compounds.

40 CFR Part 81

Air pollution control, Environmental protection, National parks, Wilderness areas.

Dated: October 17, 2013.
Susan Hedman,
Regional Administrator, Region 5.

40 CFR Parts 52 and 81 are amended as follows:

PART 52—APPROVAL AND PROMULGATION OF IMPLEMENTATION PLANS

1. The authority citation for part 52 continues to read as follows:

Authority: 42 U.S.C. 7401 et seq.

2. Section 52.1880 is amended by adding paragraphs (p)(9) and (q)(9) to read as follows:

§ 52.1880 Control strategy: Particulate matter.

* * * * *

(p) * * *

(9) Approval—The 1997 annual PM2.5 maintenance plan for the Columbus, Ohio nonattainment area (including Coshocton, Delaware, Licking, Fairfield, and Franklin Counties) has been approved as submitted on June 3, 2011. The maintenance plan establishes 2015 and 2022 motor vehicle emissions budgets for this area of 25,084.11 tons per year for NOX and 873.46 tons per year for primary PM2.5 in 2015 and 12,187.50 tons per year for NOX and 559.13 tons per year for primary PM2.5 in 2022.

(q) * * *

(9) Ohio's 2005 NOX, primary PM2.5, and SO2 emissions inventories as, as submitted on June 3, 2011, and 2007 VOC and ammonia emission inventories, as submitted on April 30, 2013, satisfy the emission inventory requirements of section 172(c)(3) of the Clean Air Act for the Columbus area.

* * * * *

PART 81—DESIGNATION OF AREAS FOR AIR QUALITY PLANNING PURPOSES

3. The authority citation for part 81 continues to read as follows:

Authority: 42 U.S.C. 7401 et seq.

4. Section 81.336 is amended by revising the entry for Columbus, OH in the table entitled “Ohio—PM2.5 (Annual NAAQS)” to read as follows:

§ 81.336 Ohio.

* * * * *

Ohio—PM2.5 (Annual NAAQS)
Designated area | Designation ᵃ: Date ¹ | Designation ᵃ: Type
* * * * * * *
Columbus, OH | 11/7/13
Coshocton County (part) Franklin Township |  | Attainment.
Delaware County |  | Attainment.
Fairfield County |  | Attainment.
Franklin County |  | Attainment.
Licking County.
* * * * * * *
ᵃ Includes Indian Country located in each county or area, except as otherwise specified.
¹ This date is 90 days after January 5, 2005, unless otherwise noted.

* * * * *

[FR Doc. 2013-25385 Filed 11-6-13; 8:45 am]

BILLING CODE 6560-50-P